DEPARTMENT OF ENERGY

Federal Energy Regulatory Commission

[Project No. 13953-002]

Mahoning Hydropower, LLC; Notice of Application Accepted for Filing With the Commision, Soliciting Motions To Intervene and Protests, Ready for Environmental Analysis, Intent To Waive Scoping, Soliciting Comments, Terms and Conditions, Recommendations, and Prescriptions, and Establishing an Expedited Schedule for Processing

Take notice that the following hydroelectric application has been filed with the Commission and is available for public inspection.

a. Type of Application: New Minor License.

b. Project No.: 13953-002.

c. Date filed: November 22, 2011.

d. Applicant: Mahoning Hydropower, LLC.

e. Name of Project: Lake Milton Hydroelectric Project.

f. Location: The project would be located on the Mahoning River, in Mahoning County, Ohio at an existing dam owned by the Ohio Department of Natural Resources. The project would not occupy federal lands.

g. Filed Pursuant to: Federal Power Act 16 U.S.C. 791(a)-825(r).

h. Applicant Contact: Mahoning Hydropower, LLC, c/o Anthony J. Marra III, General Manager, 11365 Normandy Lane, Chagrin Falls, Ohio 44023, Phone (440) 804-6627.

i. FERC Contact: Isis Johnson, (202) 502-6346, isis.johnson@ferc.gov.

j. Deadline for filing motions to intervene and protests, comments, terms and conditions, recommendations, and prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project would be located at the existing Lake Milton Dam, currently owned by the Ohio Department of Natural Resources. Water releases through Lake Milton Dam would continue to be controlled by the U.S. Army Corps of Engineers (Corps). Lake Milton Dam is a concrete gravity dam about 54 feet high and 760 feet long, with a 650-foot-long spillway and four, 60-inch-diameter gate valves. The project would also consist of the following new facilities: (1) A tubular S-Type propeller, 650-kilowatt turbine-generating unit; (2) a trash rack with a 1-inch clear bar spacing that would be placed over the existing trashrack; and (3) a 25-foot by 35-foot powerhouse that would be built below the crest of the dam and over the existing discharge pipe exiting the dam. No new penstock or tailrace are proposed as the proposed turbine would utilize the existing 70-foot-long by 60-inch diameter cast iron conduit that currently passes through the dam, and the flows exiting the turbine would be discharged directly into an existing concrete stilling basin. The proposed project would also include a new 12.5-kilovolt, 320-foot-long underground transmission line that would interconnect with an existing distribution line located west of the dam.

The two-mile-long reservoir (Lake Milton) has a surface area of 1,685 acres at a normal pool elevation of 948 feet above mean sea level. The project would operate in a run-of-release mode, based on Corp releases upstream, using flows that range between 25 cubic feet per second (cfs) and 250 cfs. When higher flows need to be released from the reservoir, flows above 250 cfs can be discharged through any of the three remaining 60-inch discharge pipes. The estimated annual generation of the Lake Milton Project would be 3,659 megawatt-hours based on a head range at the dam of between 26 and 40 feet.

m. We intend to waive scoping and expedite the review process based on several factors: (1) The dam already exists, (2) there is limited construction proposed at the project site, (3) the applicant coordinated closely with federal and state resource agencies during the preparation of the application, and (4) the studies conducted by the applicant were completed during pre-filing consultation. Based on a review of the application and resource agency consultation letters, Commission staff intends to prepare a single environmental assessment (EA). Commission staff determined that the issues that need to be addressed in its EA have been adequately identified during the pre-filing period, which included a public meeting and site visit, and no new issues are likely to be identified through additional scoping. The EA will assess the potential effects of project construction and operation on geology and soils, aquatic resources, terrestrial resources, threatened and endangered species, recreation and land use, and cultural and historic resources.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov.

Register online at http://www.ferc.gov/docs-filing/esubscription.asp to be notified via email of new filings and issuances related to this or other pending projects. For assistance, contact FERC Online Support.

o. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. Procedural schedule: The application will be processed according to the following Hydro Licensing Schedule. Revisions to the schedule will be made as appropriate (e.g., if scoping is not waived, the schedule would be lengthened).

Milestone | Target date
Notice of the availability of the EA | Sept. 2012.

Dated: July 6, 2012.
Kimberly D. Bose,
Secretary.

[FR Doc. 2012-17044 Filed 7-12-12; 8:45 am]

BILLING CODE 6717-01-P